DEPARTMENT OF COMMERCE

National Oceanic and Atmospheric Administration

[RTID 0648-XB090]

North Pacific Fishery Management Council; Public Meetings

AGENCY: National Marine Fisheries Service (NMFS), National Oceanic and Atmospheric Administration (NOAA), Commerce.

ACTION: Notice of public meeting.

SUMMARY: The North Pacific Fishery Management Council (Council) and its advisory committees will meet via web conference from June 1, 2021, through June 16, 2021.

DATES: The Council's Scientific and Statistical Committee (SSC) will begin at 8 a.m. on Monday, June 1, 2021, and continue through Friday, June 4, 2021. The Council's Advisory Panel (AP) will begin at 8 a.m. on Thursday, June 3, 2021, through Friday, June 4, 2021, and on Monday, June 7, 2021, through Wednesday, June 9, 2021. The Council will meet on Wednesday, June 9, 2021, through Friday, June 11, 2021, and on Monday, June 14, 2021, through Wednesday, June 16, 2021. All times listed are Alaska Time.

ADDRESSES: The meetings will be by web conference. Join online through the links at https://www.npfmc.org/upcoming-council-meetings.

Council address: North Pacific Fishery Management Council, 1007 W 3rd Ave., Anchorage, AK 99501-2252; telephone: (907) 271-2809. Instructions for attending the meeting via web conference are given under Connection Information below.

FOR FURTHER INFORMATION CONTACT: Diana Evans, Council staff; email: diana.evans@noaa.gov. For technical support, please contact our administrative staff, email: npfmc.admin@noaa.gov.

SUPPLEMENTARY INFORMATION:

Agenda

Monday, June 1, 2021, Through Friday, June 4, 2021

The SSC agenda will include the following issues:

(1) Observer Report on 2020 Deployment during COVID

(2) BSAI Crab—SAFE report, ABC/OFL for AIGKC and PIBKC; Plan Team report

(3) BSAI Pacific cod Trawl CV LAPP—Initial Review

(4) Finalize research priorities process

(5) BS Fishery Ecosystem Plan—FEP Team report, Climate Change Taskforce report

(6) Report from SSC Workshop on Risk Table Advice—Discuss

(7) AFSC Report

The agenda is subject to change, and the latest version will be posted at https://meetings.npfmc.org/Meeting/Details/2105 prior to the meeting, along with meeting materials.

In addition to providing ongoing scientific advice for fishery management decisions, the SSC functions as the Council's primary peer review panel for scientific information, as described by the Magnuson-Stevens Act section 302(g)(1)(e), and the National Standard 2 guidelines (78 FR 43066). The peer-review process is also deemed to satisfy the requirements of the Information Quality Act, including the OMB Peer Review Bulletin guidelines.

Thursday, June 3, 2021, Through Friday, June 4, 2021; Monday, June 7, 2021 Through Wednesday, June 9, 2021

The Advisory Panel agenda will include the following issues:

(1) Observer Report on 2020 Deployment during COVID—Review; PCFMAC and FMAC reports

(2) Trawl EM analysis—Adopt alternatives, Trawl EM Committee report

(3) BSAI Crab—SAFE report, ABC/OFL for AIGKC, PIBKC; Plan Team report

(4) BSAI Pacific cod small boat access—Discussion Paper

(5) Sablefish trawl overages—Discussion Paper (T)

(6) BS Fishery Ecosystem Plan—FEP Team report, Climate Change Taskforce report

(7) BSAI Pacific cod Trawl CV LAPP—Initial Review

(8) Staff Tasking

Wednesday, June 9, 2021, Through Friday, June 11, 2021; Monday, June 14, 2021, Through Wednesday, June 16, 2021

The Council agenda will include the following issues. The Council may take appropriate action on any of the issues identified.

(1) All B Reports (Executive Director, NMFS Management, NOAA GC, NOAA Enforcement, AFSC, ADF&G, USCG, USFWS, AP, SSC reports)

(2) Observer Report on 2020 Deployment during COVID—Review; PCFMAC and FMAC reports

(3) Trawl EM analysis—Adopt alternatives, Trawl EM Committee report

(4) BSAI Crab—SAFE report, ABC/OFL for AIGKC and PIBKC; Plan Team report

(5) BSAI Pacific cod Trawl CV LAPP—Initial Review

(6) BSAI Pacific cod small boat access—Discussion Paper

(7) Sablefish trawl overages—Discussion Paper (T)

(8) BS Fishery Ecosystem Plan—FEP Team report, Climate Change Taskforce report

(9) Report from SSC Workshop on Risk Table Advice

(10) Staff Tasking

Connection Information

You can attend the meeting online using a computer, tablet, or smartphone; or by telephone only. Connection information will be posted online at: https://www.npfmc.org/upcoming-council-meetings. For technical support, please contact our administrative staff, email: npfmc.admin@noaa.gov.

Public Comment

Public comment letters will be accepted and should be submitted electronically through the links at https://www.npfmc.org/upcoming-council-meetings. The Council strongly encourages written public comment for this meeting, to avoid any potential for technical difficulties to compromise oral testimony. The written comment period is open from May 12, 2021 to May 26, 2021 and closes at 5 p.m. Alaska Time on May 26th.

Authority: 16 U.S.C. 1801 et seq.

Dated: May 12, 2021.
Tracey L. Thompson,
Acting Deputy Director, Office of Sustainable Fisheries, National Marine Fisheries Service.

[FR Doc. 2021-10312 Filed 5-14-21; 8:45 am]

BILLING CODE 3510-22-P